DEPARTMENT OF ENERGY

Western Area Power Administration

San Luis Rio Colorado Project, Yuma County, AZ

AGENCY: Western Area Power Administration, DOE.

ACTION: Notice of intent to prepare an Environmental Impact Statement and to conduct public scoping meetings; notice of floodplain and wetlands involvement.

SUMMARY: The Department of Energy's (DOE) Western Area Power Administration (Western) and Office of Electricity Delivery and Energy Reliability (OE) intend to conduct public scoping meetings and to prepare an environmental impact statement (EIS) on a proposal to construct new international transmission facilities and to connect those facilities with Western's transmission system at its Gila Substation east of Yuma, Arizona. The EIS will be prepared in compliance with the National Environmental Policy Act (NEPA) and applicable regulations, including DOE NEPA implementing regulations.

The EIS is being prepared in response to Generadora del Desierto S.A. de C.V. (GDD) applying to DOE for a Presidential permit to construct two 500,000-volt (500-kilovolt (kV)) electric transmission lines across the United States border from Mexico, and North Branch Resources, LLC (NBR) applying to interconnect with Western's transmission system. With this Notice of Intent, DOE invites public participation in the EIS scoping process and solicits public comments to help establish the scope and content of the EIS. Because the project involves action in a floodplain, the EIS will address floodplain and wetlands impacts per DOE regulations for compliance with floodplain and wetlands environmental review.

DATES: DOE invites interested agencies, tribes, organizations, and members of the public to submit comments or suggestions to assist in identifying significant environmental issues and in determining the appropriate scope of the EIS. The public scoping period starts with the publication of this notice in the Federal Register and will continue until March 13, 2006.

Public scoping meetings are set for:

1. February 28, 2006, 9 a.m. to 4 p.m. in Yuma, Arizona.

2. February 28, 2006, 6 to 9 p.m. in Yuma, Arizona.

3. March 1, 2006, 9 a.m. to 4 p.m. in San Luis, Arizona.

4. March 1, 2006, 6 to 9 p.m., in San Luis, Arizona.

ADDRESSES: Written comments or suggestions on the scope of the EIS should be addressed to Mr. John Holt, Environmental Manager, Desert Southwest Customer Service Region, Western Area Power Administration, P.O. Box 6457, Phoenix, AZ 85005, facsimile (602) 605-2630, e-mail holt@wapa.gov.

Scoping meetings will be held at the Yuma Civic and Convention Center, 1440 West Desert Hills Drive in Yuma, AZ on February 28, and at the San Luis High School, 1250 North 8th Avenue in San Luis, AZ on March 1, 2006. The facilities are wheelchair accessible, and a Spanish-speaking representative will be present.

FOR FURTHER INFORMATION CONTACT: For information on the proposed project and interconnection with Western's transmission system, or to receive a copy of the Draft EIS when it is issued, contact Mr. Mark Wieringa, NEPA Document Manager, Western Area Power Administration, P.O. Box 281213, Lakewood, CO 80228-8213, telephone (800) 336-7288, facsimile (720) 962-7263, e-mail wieringa@wapa.gov.

For information on the Presidential permit process, contact Mrs. Ellen Russell, Office of Electricity Delivery and Energy Reliability (OE-20), U.S. Department of Energy, 1000 Independence Avenue, SW., Washington, DC 20585-0350, telephone (202) 586-9624, facsimile (202) 586-5860, e-mail ellen.russell@hq.doe.gov.

For general information on the DOE's NEPA review process, contact Carol M. Borgstrom, Director, Office of NEPA Policy and Compliance (EH-42), U.S. Department of Energy, 1000 Independence Avenue, SW., Washington, DC 20585-0119, telephone (202) 586-4600 or (800) 472-2756; facsimile (202) 586-7031.

SUPPLEMENTARY INFORMATION:

Background and Need for Agency Action

Western Interconnection Project

Federal Energy Regulatory Commission (FERC) Order Nos. 888 and 888-A require all public utilities owning or controlling interstate transmission facilities to offer non-discriminatory open access transmission services. Through these Orders, FERC addressed the need to encourage lower electricity rates by facilitating the development of competitive wholesale electric power markets through the prevention of unduly discriminatory practices in providing transmission services.

In order to be consistent with FERC Order Nos. 888 and 888-A, Western published its Notice of Final Open Access Transmission Service Tariff (Tariff) in the Federal Register on January 6, 1998. Western filed an amendment to the Tariff with FERC on January 25, 2005, to adopt Large Generator Interconnection (LGI) rules that substantially conform with those published in FERC Order Nos. 2003, 2003-A and 2003-B. Western's amended Tariff requires Western to respond to an application as presented by an applicant. Section 211 of the Federal Power Act requires that transmission services be provided upon application if transmission capacity is available.

In compliance with the FERC LGI rules, Western has committed to accommodating new transmission capacity constructed by an applicant. NBR has requested an interconnection to the Federal transmission system under Western's Tariff. Western must determine whether to grant or deny the interconnection while considering effects of the proposed project on existing customers, the environment, system reliability, and any system modifications needed to accommodate the interconnection. If the interconnection request is granted and the proposed project proceeds, Western would construct, own, operate, and maintain any required modifications to its own transmission system within the United States at the expense of NBR.

Because the proposed project would integrate a major new source of generation into Western's transmission system, Western has determined that an EIS is required under DOE's NEPA Implementing Procedures, 10 CFR part 1021, Subpart D, Appendix D, class of action D6.

DOE Presidential Permit

GDD has applied to DOE for a Presidential permit to construct two 500-kV electric transmission lines across the United States border from Mexico. Executive Order 10485, as amended by Executive Order 12038, requires that a Presidential permit be issued before electric transmission facilities may be constructed, operated, maintained, or connected at the U.S. international border. The Executive Order provides that a Presidential permit may be issued after a finding that the proposed project is consistent with the public interest and after concurrence by the U.S. Departments of State and Defense. The implementing regulations are published at 10 CFR 205.320-205.329.

In determining consistency with the public interest, DOE considers the environmental impacts of the proposed project under NEPA, determines the project's impact on electric reliability (including whether the proposed project would adversely affect the operation of the United States electric power supply system under normal and contingency conditions), and any other factors that DOE may also consider relevant to the public interest. Issuance of a Presidential permit indicates that there is no Federal objection to the project, but does not mandate that the project be completed.

Proposed Action and Alternatives

The Applicants are each wholly owned subsidiaries of North Branch Holding, LLC. GDD proposes to construct, own, operate, and maintain the power plant in Mexico and the short section of transmission line located in Mexico. The Applicants propose that Western construct, own, operate, and maintain the double-circuited 500-kV transmission components in the United States, at the Applicants' expense. In response to the interconnection request to Western, the transmission line would interconnect with Western's transmission system through a 500/161-kV expansion at Gila Substation, located east of Yuma. Under the proposal, Western would construct, own, operate, and maintain the 500-kV transmission line between a Point of Change of Ownership near the international border and the Gila Substation, the 500/161-kV expansion at Gila Substation, and the 500-kV transmission line between Gila Substation and Arizona Public Service Company's (APS) North Gila Substation. In that case, Western would become a co-applicant on the Presidential permit application.

Western considers the 500-kV transmission facilities south of Gila Substation, the Proposed Point of Interconnection, to be Interconnection Facilities for the sole use of the Applicants, while the path between Gila Substation and North Gila Substation is a Network Upgrade benefiting the integrated transmission system. The Interconnection Facilities will consist of the Interconnection Customer's Interconnection Facilities, owned by GDD, and Transmission Provider's Interconnection Facilities, owned by Western. GDD has received an authorization from Comision Reguladora de Energia (CRE), Mexico's energy regulatory commission, to export electric energy to the United States and GDD proposes to deliver on-peak electrical power into the United States in the vicinity of Yuma, Arizona.

The total length of the 500-kV transmission system within the United States would be approximately 25 miles; 20 miles from the international border to Gila Substation and 5 miles from Gila Substation to North Gila Substation. To reduce the height, the double-circuit 500-kV transmission line may be constructed as two separate single-circuit transmission lines for a short distance near the U.S. Marine Corps Auxiliary Airfield No. 2 landing pattern. The Applicants have proposed a route for the 500-kV transmission line that crosses the border immediately north of the proposed power generation facility and then turns northeast to the boundary of the Barry M. Goldwater Range (Range). The route then proceeds north along the boundary of the Range and parallels the proposed Area Service Highway and Western's existing Sonora 69-kV transmission line. Near the northwest corner of the Range, the proposed route heads north to the Yuma Mesa Irrigation District canal and levee, then turns generally northeastward, paralleling the canal, levee, levee road, and Western's 69-kV line into Gila Substation. Leaving Gila Substation, the proposed route parallels the existing three transmission lines to the north, crossing the South Gila Valley, then turns northwest and into APS's North Gila Substation, still paralleling the existing transmission lines. DOE will evaluate opportunities to consolidate existing transmission lines with the proposed new line.

DOE will consider any additional reasonable alternatives that result from comments received in response to the scoping process described in this notice. To be considered reasonable, alternatives would need to meet the Applicants' and Western's purpose and need, and be technically feasible and economically viable. DOE will also consider reasonable alternatives that may be identified later in the EIS process.

The EIS will also consider the environmental impacts of the “No Action” alternative. Under the No Action alternative, the EIS will analyze the impacts associated with not approving an interconnection agreement and not issuing a Presidential permit.

Activities Outside the United States

Inside Mexico, GDD plans to construct and operate a new 550-Megawatt (MW) nominal (605-MW peaking) natural gas-fired, combined cycle power generating facility located approximately 3 miles east of San Luis Rio Colorado, State of Sonora, Mexico, and about 1 mile south of the international border. While this facility is not subject to the United States' regulatory requirements, DOE will evaluate impacts within the United States from its operation as part of its impact analysis. GDD plans to construct the power generating facility to comply with applicable United States environmental standards in addition to those of Mexico's lnstituto Nacional de Ecología. The planned generating facility would be equipped with advanced air emissions control technology, including low-NOX combustion technology and a selective catalytic reduction system for oxides of nitrogen, and catalytic oxidizers for carbon monoxide emissions control. The generating facility's primary source of water would be treated effluent from the San Luis Rio Colorado water treatment plant, and GDD would construct a pipeline system connecting the two facilities. A natural gas pipeline approximately 6 miles long would be constructed from the generating facility to an existing main gas line. GDD plans to sell off-peak power inside Mexico to the association of maquiladoras (fabrication or assembly plants in the North American Free Trade Agreement zone) of San Luis Rio Colorado and also to the Comision Federal de Electricidad, Mexico's national electric utility. GDD would construct, own, operate, and maintain a section of transmission line in Mexico to a point to be determined (Point of Change of Ownership).

Identification of Environmental Issues

In the EIS, DOE will examine public health and safety effects and environmental impacts within the United States from the proposed transmission facilities and from the associated Mexico generating facility. The EIS will be prepared under the requirements of the Council on Environmental Quality's NEPA Implementing Regulations (40 CFR parts 1500-1508) and DOE's NEPA Implementing Procedures (10 CFR part 1021). Because the project involves action in a floodplain, the EIS will include a floodplain assessment and floodplain statement of findings following DOE regulations for compliance with floodplain and wetlands environmental review (10 CFR part 1022). Tribal governments and Federal, state, and local agencies with special expertise or jurisdiction over the proposed project are being invited to become cooperating agencies on the EIS.

This notice is to inform agencies and the public of the proposed project and solicit comments and suggestions for consideration in the preparation of the EIS. To help the public frame its comments, this notice contains a list of potential environmental issues within the United States that DOE has tentatively identified for analysis. These issues include:

(1) Impacts on protected, threatened, endangered, or sensitive species of animals or plants or their critical habitats (including flat-tailed horned lizard and Peirson's milk-vetch);

(2) Impacts on other biological resources;

(3) Impacts on land use, recreation, and transportation (including agriculture, urban development and the planned Area Service Highway);

(4) Impacts on floodplains and wetlands;

(5) Impacts on cultural or historic resources and tribal values;

(6) Impacts on human health and safety (including military, civilian, and agricultural aviation safety);

(7) Impacts on air, soil, and water resources (including air quality, groundwater consumption, and quality);

(8) Visual impacts; and

(9) Socioeconomic impacts and disproportionately high and adverse impacts to minority and low-income populations.

This list is not intended to be all-inclusive or to imply any predetermination of impacts, and DOE invites interested parties to suggest specific issues within these general categories, or other issues not included above, to be considered in the EIS. Since the EIS would be prepared in compliance with U.S. law, it will only address impacts that would accrue in the United States. NEPA does not require an analysis of environmental impacts that occur within another sovereign nation that result from approved actions by that sovereign nation. Executive Order 12114 (January 4, 1979) requires Federal agencies to prepare an analysis of significant impacts from a Federal action in certain defined circumstances and exempts agencies from preparing analyses in others. The Order does not require Federal agencies to evaluate impacts outside the United States when the foreign nation is participating with the United States or is otherwise involved in the action. Here, the Mexican Government has been involved in evaluating the environmental impacts associated with the generating facility in Mexico and has issued permits authorizing the construction and operation of the generating facility and ancillary facilities, including water use. An overview of the permitting of the generating facility and associated environmental impacts analysis that was performed by the Mexican Government will be included in the Draft EIS.

Scoping Process

Interested parties are invited to participate in the scoping process, both to refine the preliminary alternatives and environmental issues to be analyzed in depth, and to eliminate from detailed study those alternatives and environmental issues that are not feasible or pertinent. All comments received will be considered and used to shape the EIS process.

Public EIS scoping meetings will be held at the location, date, and times indicated above under the DATES and ADDRESSES sections. The scoping meetings will be structured as informal open houses. They will provide interested parties the opportunity to view proposed project and EIS process information, ask questions, and make comments. DOE and cooperating agency representatives will be available to answer questions and provide additional information to attendees.

DOE invites those entities with jurisdiction by law or special expertise with respect to environmental issues to be cooperating agencies on the EIS, as defined at 40 CFR 1501.6. Such entities may also make a request to DOE to be a cooperating agency. Designated cooperating agencies have certain responsibilities to support the NEPA process, as specified at 40 CFR 1501.6(b).

Persons submitting comments during the scoping process will receive copies of the Draft EIS. Persons who do not wish to submit comments or suggestions at this time, but who would like to receive a copy of the Draft EIS for review and comment when it is issued, should notify Mr. Mark Wieringa at the address provided above. The Draft EIS in printed form or electronic form on a compact disc will be made available to the public upon request.

Draft EIS Schedule and Availability

DOE anticipates the EIS process will take about 14 to 16 months and will include the public information and scoping meetings; consultation and involvement with appropriate Federal, state, and local agencies, and tribal governments; public review and hearing(s) on the published Draft EIS; a published Final EIS; and publication of a Record of Decision (ROD).

The public will be provided an opportunity to review the Draft EIS and a hearing on the published Draft EIS is expected to be conducted in the third quarter of calendar year 2006. A notice of the location of these public hearings will be provided in the Federal Register and local media at a later date.

A published final EIS, a waiting period, and publication of a ROD are anticipated in early calendar year 2007.

Dated: February 2, 2006.
Michael S. Hacskaylo,
Administrator.

[FR Doc. E6-1914 Filed 2-9-06; 8:45 am]

BILLING CODE 6450-01-P